DEPARTMENT OF LABOR

Employment and Training Administration

[TA-W-62,021]

Emcore Corporation; Emcore Fiber Optics Division; Naperville, IL; Notice of Negative Determination Regarding Application for Reconsideration

By application dated October 12, 2007, a worker requested administrative reconsideration of the Department's negative determination regarding eligibility for workers and former workers of Emcore Corporation, Emcore Fiber Optics Division, Naperville, Illinois (the subject firm) to apply for Trade Adjustment Assistance (TAA) and Alternative Trade Adjustment Assistance (ATAA). The negative determination was issued on September 28, 2007. On October 12, 2007, the Department's Notice of negative determination was published in the Federal Register (72 FR 58131). Workers at the subject firm design, assemble, test, troubleshoot, disassemble, and repair LX4 digital fiber optic components for semiconductors. Workers are not separately identifiable by product.

The negative determination was based on the Department's findings that after the subject firm shifted production of digital fiber optic components to Thailand, the subject firm did not import and did not intend to import articles like or directly competitive with those produced by the subject firm.

In the request for reconsideration, the worker alleges that production of digital fiber optic components shifted from the subject firm to Thailand and that the shift of production was followed by increased imports of articles like or directly competitive with those produced at the subject firm.

Pursuant to 29 CFR 90.18(c), administrative reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

After careful review of the request for reconsideration and previously submitted materials, the Department determines that there is no new information that supports a finding that there was a shift of production to a country that is a party to a free trade agreement with the United States or a country that is named as a beneficiary under the Andean Trade Preference Act, the African Growth and Opportunity Act, or the Caribbean Basin Economic Recovery Act.

Thailand does not have a free trade agreement with the United States and is not a party to any of the previously-identified Acts.

After careful review of the request for reconsideration and previously submitted materials, the Department also determines that there is no new information that supports a finding that there were increased imports (actual or likely) of articles like or directly competitive with those produced by the subject firm following the subject firm's shift of production abroad, and that there was no mistake or misinterpretation of the facts or of the law regarding the Department's initial determination that the subject workers are not eligible to apply for TAA and ATAA.

Conclusion

After review of the application and investigative findings, I conclude that there has been no error or misinterpretation of the law or of the facts which would justify reconsideration of the Department of Labor's prior decision. Accordingly, the application is denied.

Signed at Washington, DC, this 20th day of November 2007.
Elliott S. Kushner,
Certifying Officer, Division of Trade Adjustment Assistance.

[FR Doc. E7-23373 Filed 11-30-07; 8:45 am]

BILLING CODE 4510-FN-P